DEPARTMENT OF HEALTH AND HUMAN SERVICES

[Document Identifier OS-0990-0008]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before January 3, 2023.

ADDRESSES: Submit your comments to Sherrette.Funn@hhs.gov or by calling (202) 795-7714.

FOR FURTHER INFORMATION CONTACT: When submitting comments or requesting information, please include the document identifier 0990-0008-60D and project title for reference, to Sherrette A. Funn, email: Sherrette.Funn@hhs.gov, or call (202) 264-0041 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Abstract: The Office for Civil Rights is seeking a revision on an approval for a 3-year clearance on a previous collection. Individuals may file written or electronic complaints with the Office for Civil Rights when they believe they have been discriminated against by programs or entities that receive Federal financial assistance from the Health and Human Service or if they believe that their right to the privacy of protected health information freedom has been violated. Annual Number of Respondents frequency of submission is record keeping and reporting on occasion.

Title of the Collection: Assurance of Compliance, Form HHS-690.

Type of Collection: Revision.

OMB No. 0945-0008.

Abstract: This Information Collection Request is to continue the previously approved collection 0945-0008 that is expiring in December 2022, titled: Assurance of Compliance, Form HHS-690, subject to minor modifications. Such an assurance is required by the federal civil rights laws enforced by the Office for Civil Rights, as described herein. One method that the federal government uses to ensure civil rights compliance is to require covered entities to submit written assurances of compliance when applying for federal financial assistance. The assurances alert covered entities of their civil rights obligations and provide the Department with a valuable enforcement tool, as a recipient's written assurance and certification documents can provide an independent contractual basis for enforcement of nondiscrimination requirements.

Estimated Annualized Burden Hours
Type of respondent | Form name | Number of respondents | Number responses per respondents | Average burden/ response (in hours) | Total burden hours
States, certain health care providers, other persons and entities | Form HHS-690 | 9595 | 1 | 4 | 38,380
Total |  |  |  |  | 38,380

Sherrette A. Funn,
Paperwork Reduction Act Reports Clearance Officer, Office of the Secretary.

[FR Doc. 2022-23797 Filed 11-1-22; 8:45 am]

BILLING CODE 4153-01-P